INTERNATIONAL TRADE COMMISSION

[Investigation No. 337-TA-1378]

Certain Organic Light-Emitting Diode Display Modules and Components Thereof; Notice of a Commission Decision Not To Review an Initial Determination Amending the Complaint and Notice of Investigation

AGENCY: U.S. International Trade Commission.

ACTION: Notice.

SUMMARY: Notice is hereby given that the U.S. International Trade Commission (“Commission”) has determined not to review an initial determination (“ID”) (Order No. 63) of the presiding administrative law judge (“ALJ”), to amend the complaint and notice of investigation to change the name of one of the respondents.

FOR FURTHER INFORMATION CONTACT: Sidney A. Rosenzweig, Esq., Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 6, 2023, based on a complaint filed by Samsung Display Company, Ltd. of the Republic of Korea (“Samsung”). 88 FR 84829 (Dec. 6, 2023). The complaint, as supplemented, alleges violations of Section 337 of the Tariff Act of 1930, as amended (19 U.S.C. 1337), in the importation into the United States, or in the sale of certain organic light-emitting diode display modules and components thereof by reason of misappropriation of trade secrets, the threat or effect of which is to destroy or substantially injure a domestic industry or to prevent the establishment of an industry in the United States. Id. The Commission's notice of investigation named as respondents BOE Technology Group Co., Ltd. of Beijing, China; Mianyang BOE Optoelectronics Technology Co., Ltd. of Mianyang, China; Ordos Yuansheng Optoelectronics Co., Ltd. of Inner Mongolia Autonomous Region, China; Chengdu BOE Optoelectronics Technology Co., Ltd. of Chengdu, China; Chongqing BOE Optoelectronics Technology Co., Ltd. of Chongqing, China; Wuhan BOE Optoelectronics Technology Co., Ltd. of Wuhan, China; BMOT f/k/a Kunming BOE Display Technology of Yunnan Dianzhong New Area, China (“BMOT”); and BOE Technology America Inc. of Santa Clara, California. Id. The Office of Unfair Import Investigations is participating in the investigation. Id.

On May 21, 2025, Samsung and all respondents filed a “Joint Notice of Name Change,” because respondent BMOT had changed its name to Yunnan Invensight Optoelectronics Technology Co., Ltd. (“Yunnan”).

On May 27, 2025, the ALJ issued the subject ID (Order No. 63) amending the complaint and notice of investigation to replace BMOT with Yunnan. The ALJ treated the notice as a joint motion to amend the complaint and notice of investigation pursuant to Commission Rule 210.14(b)(1) (19 CFR 210.14(b)(1)). The ID finds that good cause for the amendment exists because Yunnan is the proper party in interest.

No petitions for Commission review of the ID were filed.

The Commission has determined not to review the subject ID.

The Commission vote for this determination took place on June 17, 2025.

The authority for the Commission's determination is contained in section 337 of the Tariff Act of 1930, as amended (19 U.S.C. 1337), and in Part 210 of the Commission's Rules of Practice and Procedure (19 CFR part 210).

By order of the Commission.
Issued: June 17, 2025.
Sharon Bellamy,
Supervisory Hearings and Information Officer.

[FR Doc. 2025-11401 Filed 6-20-25; 8:45 am]

BILLING CODE 7020-02-P